DEPARTMENT OF HEALTH AND HUMAN SERVICES

Administration for Children and Families

Proposed Information Collection Activity; Comment Request

Title: Study of Coordination of Tribal TANF and Child Welfare Services.

OMB No.: New Collection.

Description: The Study of Coordination of Tribal TANF and Child Welfare Services is sponsored by the Office of Planning, Research and Evaluation (OPRE), Administration for Children and Families of the U.S. Department of Health and Human Services. The study examines the approaches and strategies utilized by tribes and tribal organizations that were awarded the grants for Coordination of Tribal TANF and Child Welfare Services to Tribal Families at Risk of Child Abuse or Neglect.

The descriptive study of these programs that serve tribal communities will document the way in which the tribal grantees are creating and adapting culturally relevant and appropriate approaches, systems, and programs to increase coordination and enhance service delivery to address child abuse and neglect. The study will also document challenges faced and lessons learned to inform the field of practice as well as policymakers and funders at various levels.

The proposed information collection activities consist of semi-structured interviews, conducted at each of the 14 tribal communities, and a grantee feedback survey on the usefulness of periodically held cross-grantee learning events.

Respondents: Program director(s), tribal TANF and child welfare staff and supervisors, program partners, and tribal leaders or elders. The information collection does not include direct interaction with individuals or families that receive the services.

Annual Burden Estimates
Instrument | Annual number of respondents | Number of responses per respondent | Average burden hours per response | Total annual burden hours
Interview Protocol for Program Staff | 9 | 3 | 1.5 | 41
Interview Protocol for TANF and CW Staff | 19 | 3 | 1 | 57
Interview Protocol for Tribal or Community Partners | 9 | 3 | .75 | 20
Interview Protocol for Tribal Leaders or Elders | 9 | 3 | 1 | 27
Feedback Form for Community of Learning Events | 10 | 5 | .15 | 8

Estimated Total Annual Burden Hours: 153.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2012-7923 Filed 4-2-12; 8:45 am]

BILLING CODE 4184-35-P